COMMISSION ON CIVIL RIGHTS

Notice of Public Meetings of the South Dakota Advisory Committee to the U.S. Commission on Civil Rights; Revision to Time and Agenda Item

AGENCY: Commission on Civil Rights.

ACTION: Notice: revision to meeting time and agenda item.

SUMMARY: The Commission on Civil Rights published a notice in the Federal Register of Tuesday, January 10, 2023, concerning meetings of the South Dakota Advisory Committee. The notice is in FR Doc. 2023-00230, in the first and second columns of page 1348. The document contains a meeting time that is now revised. Also, in the second column, Agenda item three should be revised to read: Discussion: Report on Voting Rights and Voter Access.

DATES: March 13, 2023, Monday at 1:00 p.m. (CT) and April 10, 2023, Monday at 1:00 p.m. (CT)

ADDRESSES: Meetings will be held via the same Zoom information.

Meeting Link (Audio/Visual): https://tinyurl.com/3stmv9et; password, if needed: USCCR-SD.

Join by Phone (Audio Only): 1-551-285-1373; Meeting ID: 160 729 5158#.

FOR FURTHER INFORMATION CONTACT: Mallory Trachtenberg, at mtrachtenberg@usccr.gov or by phone at 202-809-9618.

Dated: February 24, 2023.
David Mussatt,
Supervisory Chief, Regional Programs Unit.

[FR Doc. 2023-04246 Filed 3-1-23; 8:45 am]

BILLING CODE P